DEPARTMENT OF ENERGY

Secretary of Energy Advisory Board; Meeting

AGENCY: Department of Energy.

ACTION: Notice of open meeting.

SUMMARY: This notice announces an open meeting of the Secretary of Energy Advisory Board's Laboratory Operations Board (LOB). The Federal Advisory Committee Act (Public Law 92-463, 86 Stat. 770), requires that agencies publish these notices in the Federal Register to allow for public participation.

NAME: Secretary of Energy Advisory Board—Laboratory Operations Board.

DATES: Thursday, December 7, 2000, 8:30 a.m.-3:15 p.m., Eastern Standard Time.

ADDRESSES: Hilton Washington Embassy Row Hotel, 2015 Massachusetts Ave., NW., Washington, DC 20036

FOR FURTHER INFORMATION CONTACT: Mary Louise Wagner, Executive Director, or Laurie Keaton, LOB Staff Director, Office of Secretary of Energy Advisory Board (AB-1), US Department of Energy, 1000 Independence Avenue, SW., Washington, DC 20585, (202) 586-7162 or (202) 586-6279 (fax).

SUPPLEMENTARY INFORMATION: The purpose of the Laboratory Operations Board is to provide independent external advice to the Secretary of Energy Advisory Board regarding the strategic direction of the Department's laboratories, the coordination of budget and policy issues affecting laboratory operations, and the reduction of unnecessary and counterproductive management burdens on the laboratories. The Laboratory Operations Board's goal is to facilitate the productive and cost-effective utilization of the Department's laboratory system and the application of best business practices.

Tentative Agenda

Thursday, December 7, 2000

8:30 a.m.-9 a.m.—Co-Chairs Opening Remarks

9 a.m.-9:45 a.m.—Budget and Appropriations Update

9:45 a.m.-10 a.m.—Break

10 a.m.-11 a.m.—Presentation on Hamre Commission: Study of the Science and Security Functions of the Department

11 a.m.-12 p.m.—Presentation on Transition Planning at DOE

12 p.m.-1 p.m.—Lunch

1 p.m.-3 p.m.—LOB Work Plan—Status Reports

—Implementation of Performance Based Management at DOE

—LOB Retrospective

—Laboratory Profile Report Update

3 p.m.-3:15 p.m.—Public Comment Period

3:15 p.m.—Adjourn

This tentative agenda is subject to change.

Public Participation: In keeping with procedures, members of the public are welcome to monitor the business of the Laboratory Operations Board and to submit written comments or comment during the scheduled public comment period. The meeting will be conducted in a fashion that will, in the Co-Chairs' judgment, facilitate the orderly conduct of business. During its open meeting, the Laboratory Operations Board welcomes public comment. Members of the public will be heard in the order in which they sign up at the beginning of the meeting. The Board will make every effort to hear the views of all interested parties. You may submit written comments to Mary Louise Wagner, Executive Director, Secretary of Energy Advisory Board, AB-1, US Department of Energy, 1000 Independence Avenue, SW., Washington, DC 20585. This notice is being published less than 15 days before the date of the meeting due to the late resolution of programmatic issues.

Minutes: A copy of the minutes and a transcript of the meeting will be made available for public review and copying approximately 30 days following the meeting at the Freedom of Information Public Reading Room, 1E-190 Forrestal Building, 1000 Independence Avenue, SW., Washington, DC, between 9 a.m. and 4 p.m., Monday through Friday except Federal holidays. Further information on the Laboratory Operations Board is available at the Secretary of Energy Advisory Board's web site, located at http://www.hr.doe.gov/seab.

Issued at Washington, DC, on November 28, 2000.
Rachel M. Samuel,
Deputy Advisory Committee Management Officer.

[FR Doc. 00-30681 Filed 11-30-00; 8:45 am]

BILLING CODE 6450-01-P